DEPARTMENT OF COMMERCE

National Institute of Standards and Technology

National Voluntary Conformity Assessment Systems Evaluation

ACTION: Request for comment on proposed information collection.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted by December 24, 2001.

ADDRESSES: Direct all written comments to Madeleine Clayton, Departmental Paperwork Clearance Officer, Department of Commerce, Room 6086, 14th and Constitution Avenue, NW., Washington, DC 20230.

FOR FURTHER INFORMATION CONTACT: Requests for additional information or copies of the information collection instrument(s) and instructions should be directed to Jogindar S. Dhillon, National Institute of Standards and Technology (NIST), 100 Bureau Drive, Stop 2100, Gaithersburg, MD 20899-2100, telephone: (301) 975-5521.

SUPPLEMENTARY INFORMATION:

I. Abstract

The National Voluntary Conformity Assessment Systems Evaluation (NVCASE) Program is a voluntary program to evaluate organizations that carry out activities related to laboratory testing, product certification, and quality system registration. Interested organizations provide information to NIST to support their conformance with established criteria for any of these activities. The information provided is used to conduct an NVCASE evaluation. Based on NVCASE evaluations, NIST provides recognition to qualified U.S. organizations. The ultimate goal is to help U.S. manufacturers satisfy applicable product requirements mandated by other countries through conformity assessment procedures conducted in this country prior to export.

NVCASE recognition (1) provides other governments with a basis for having confidence that qualifying U.S. conformity assessment bodies (CABs) are competent, and (2) facilitates the acceptance of U.S. products in foreign regulated markets based on U.S. conformity assessment results.

The NVCASE recognition program facilitates U.S. trade with Europe, Asia and the Americas under government-to-government agreements, and allows the unhindered flow of U.S. products to countries in those regions.

II. Method of Collection

Applicants submit written information to NIST.

III. Data

OMB Number: 0693-0019.

Form Number: None.

Type of Review: Regular submission for an extension of a currently approved collection.

Affected Public: Accreditation Bodies.

Estimated Number of Respondents: 100.

Estimated Time Per Response: 1 hour.

Estimated Total Annual Burden Hours: 100.

Estimated Total Annual Cost: The estimate of the total annual cost to submit this information for fiscal year 2001 and future years is $3500. The cost is borne by the entities submitting the information. The small increase in cost from the previous estimate is due to cost escalation and experience in working with these organizations.

IV. Requests for Comments

Comments are invited on: (a) Whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they will also become a matter of public record.

Dated: October 16, 2001.
Karen H. Brown,
Acting Director.

[FR Doc. 01-26697 Filed 10-22-01; 8:45 am]

BILLING CODE 3510-13-M